DEPARTMENT OF COMMERCE

National Oceanic and Atmospheric Administration

50 CFR Part 226

RIN 0648-AX06

Endangered and Threatened Species; Public Hearing Notification

AGENCY: National Marine Fisheries Service (NMFS), National Oceanic and Atmospheric Administration (NOAA), Commerce.

ACTION: Notice of public hearings.

SUMMARY: NMFS will hold two public hearings in Carlsbad, CA, and San Jose, CA, in February 2010 to answer questions and receive public comments on the proposed rule to revise the critical habitat designation for the endangered leatherback sea turtle, which was published in the Federal Register on January 5, 2010.

DATES: See SUPPLEMENTARY INFORMATION for specific dates, times and locations of the public hearings. Comments and information regarding this proposed rule must be received by March 8, 2010.

ADDRESSES: Written comments on the proposed rule may be submitted, identified by RIN 0648-AX06, and addressed to: David Cottingham, Chief, Marine Mammal and Sea Turtle Conservation Division, by any of the following methods:

• Electronic Submissions: Submit all electronic comments via the Federal eRulemaking Portal: http://www.regulations.gov;

• Facsimile (fax): 301-713-4060, Attn: David Cottingham;

• Mail: Chief, Marine Mammal and Sea Turtle Conservation Division, NMFS, Office of Protected Resources, 1315 East West Highway, Silver Spring, MD, 20910.

Instructions: No comments will be posted for public viewing until after the comment period has closed. All comments received are a part of the public record and will generally be posted to http://www.regulations.gov without change. NMFS may elect not to post comments that contain obscene or threatening content. All Personal Identifying Information (for example, name, address, etc.) voluntarily submitted by the commenter may be publicly accessible. Do not submit Confidential Business Information or otherwise sensitive or protected information.

NMFS will accept anonymous comments (enter N/A in the required fields, if you wish to remain anonymous). You may submit attachments to electronic comments in Microsoft Word, Excel, WordPerfect, or Adobe PDF file formats only. The proposed rule and supporting documents, including the biological report, economic report, IRFA analysis, and 4(b)(2) report, are also available electronically at http://www.nmfs.noaa.gov/pr/species/turtles/leatherback.htm#documents.

FOR FURTHER INFORMATION CONTACT: Sara McNulty, NMFS, Office of Protected Resources, 301-713-2322; Elizabeth Petras, NMFS Southwest Region, 562-980-3238; Steve Stone, NMFS Northwest Region, 503-231-2317.

SUPPLEMENTARY INFORMATION: The dates, times and locations of the hearings are as follows:

1. Wednesday, February 17, 2010, 3:00 p.m. to 5:00 p.m., Carlsbad, CA: U.S. Fish and Wildlife Service Carlsbad Office, 6010 Hidden Valley Road, Carlsbad, CA 92011; Conference Room 1.

2. Thursday, February 18, 2010, 3:00 p.m. to 5:00 p.m., San Jose, CA: San Jose Marriott, 301 South Market Street, San Jose, CA 95113; Blossom Hill Salons I and II.

Special Accommodations

These hearings are physically accessible to people with disabilities. Requests for sign language interpretation or other auxiliary aids should be directed to Sara McNulty, NMFS, Office of Protected Resources, 301-713-2322, at least five business days prior to the hearing date.

Authority: 16 U.S.C. 1531 et seq.

Dated: January 26, 2010.
Helen Golde,
Deputy Director, Office of Protected Resources, National Marine Fisheries Service.

[FR Doc. 2010-2004 Filed 1-29-10; 8:45 am]

BILLING CODE 3510-22-S